SOCIAL SECURITY ADMINISTRATION

Privacy Act of 1974, as Amended; New System of Records; New Routine Use Disclosures; and Alterations to Existing System of Records

AGENCY: Social Security Administration (SSA).

ACTION: New system of records, proposed routine uses and alterations to existing system of records.

SUMMARY: In accordance with the Privacy Act (5 U.S.C. 552a(e)(4) and (e)(11)), we are issuing public notice of our intent to:

(1) Establish a new system of records, the Ticket-to-Work and Self-Sufficiency Program Payment Database, and routine uses applicable to this system, and

(2) Alter an existing system of records, the Completed Determination Record-Continuing Disability Determinations, 60-0050.

The proposed new system of records and the altered system will maintain information collected for use in connection with SSA's implementation of the Ticket-to-Work and Work Incentives Improvement Act of 1999, Public Law 106-170. We invite public comment on these proposals.

DATES: We filed a report of the proposed new systems of records and proposed altered system with the Chairman of the Senate Governmental Affairs Committee, the Chairman of the House Reform and Oversight Committee, and the Director, Office of Information and Regulatory Affairs, Office of Management and Budget (OMB) on March 28, 2001. We also requested OMB to waive the 40-day advance notice requirements for the system. If OMB does not grant the waiver we will not implement the proposal before May 7, 2001.

ADDRESSES: Interested individuals may comment on this publication by writing to the SSA Privacy Officer, Social Security Administration, 3-A-6 Operations Building, 6401 Security Boulevard, Baltimore, Maryland 21235. All comments received will be available for public inspection at the above address.

FOR FURTHER INFORMATION CONTACT: Ms. Pamela McLaughlin, Social Insurance Specialist, Social Security Administration, Room 3-C-2 Operations Building, 6401 Security Boulevard, Baltimore, Maryland 21235-6401, telephone (410) 965-3677.

SUPPLEMENTARY INFORMATION:

I. Background and Purpose of the Proposed New System of Records, the Ticket-to-Work and Self-Sufficiency Program Payment Database, 60-0295 and Proposed Alterations to Existing System of Records, the Completed Determination Record—Continuing Disability Determination, 60-0050

A. General Background

On December 17, 1999, the President signed into law the Ticket-to-Work and Work Incentives Improvement Act of 1999, Public Law 106-170. Section 101(a) of this law amended title XI of the Social Security Act (the Act) by adding section 1148, which provides for the establishment of the Ticket-to-Work and Self-Sufficiency Program (Ticket Program). The Ticket Program provides that certain title II and title XVI Social Security beneficiaries with disabilities will receive a Ticket they can use to obtain employment services, vocational rehabilitation services or other support services from an employment network (EN) which is of the beneficiary's choice and which is willing to provide such services to the beneficiary.

In order to implement and administer this program SSA must collect and maintain personal identifiable information about SSA title II and title XVI beneficiaries with disabilities who are participating in the Ticket Program. SSA's maintenance of this information requires an alteration to an existing system of records and to establish a new system of records under the Privacy Act. Information about the participants for the Ticket program will be maintained in a new system of records entitled, the Ticket-to-Work and Self-Sufficiency Program Payment Database, and in an existing system of records entitled, the Completed Determination Record—Continuing Disability Determination.

B. Collection and Maintenance of Data for the Proposed New System of Records, the Ticket-to-Work and Self-Sufficiency Program Payment Database

The information that will be maintained in the Ticket-to-Work and Self-Sufficiency Program Payment Database will be collected from the Program Manager (PM) and SSA regarding claims for payment made by ENs for specific beneficiaries. Specifically, the Ticket-to-Work and Self-Sufficiency Program Payment Database will maintain payments requested by and made to ENs for specific beneficiaries under the Ticket Program. This information will be housed under both the EN's employer identification number and each beneficiary's ticket number, which essentially represents the social security number. Additional information collected will include the type, amount and date of the payments made, as well as EN payment requests that are denied.

II. Proposed Routine Use Disclosures of Data Maintained in the Proposed New System of Records, the Ticket-to-Work and Self-Sufficiency Program Payment Database

A. Proposed Routine Use Disclosures

We are proposing to establish routine uses of information that will be maintained in the proposed new system as discussed below.

1. To the Office of the President for the purpose of responding to an individual pursuant to an inquiry received from that individual or from a third party on his or her behalf. We will disclose information under this routine use only in situations in which an individual may contact the Office of the President, seeking that office's assistance in a SSA matter on his or her behalf. Information would be disclosed when the Office of the President makes an inquiry and presents evidence that the office is acting on behalf of the individual whose record is requested.

2. To a congressional office in response to an inquiry from that office made at the request of the subject of a record. We will disclose information under this routine use only in situations in which an individual may ask his/her congressional representative to intercede in an SSA matter on his or her behalf. Information would be disclosed when the congressional representative makes an inquiry and presents evidence that he or she is acting on behalf of the individual whose record is requested.

3. To student volunteers and other workers, who technically do not have the status of Federal employees, when they are performing work for SSA as authorized by law, and they need access to personally identifiable information in SSA records in order to perform their assigned Agency functions. Under certain Federal statutes, SSA is authorized to use the services of volunteers and participants in certain educational, training, employment and community service programs. Examples of such statutes and programs are: 5 U.S.C. 3111 regarding student volunteers and 42 U.S.C. 2753 regarding the College Work Study Program. We contemplate disclosing information under this routine use only when SSA uses the services of these individuals, and they need access to information in this system to perform their assigned duties.

4. Disclosure to contractors and other Federal agencies, as necessary, for the purpose of assisting SSA in the efficient administration of its programs. We will disclose information under this routine use only in situations in which SSA may enter into a contractual agreement or similar agreement with a third party to assist in accomplishing an agency function relating to this system of records.

5. Non-tax return information which is not restricted from disclosure by federal law may be disclosed to the General Services Administration (GSA) and the National Archives and Records Administration (NARA) under 44 U.S.C. Sec. 2904 and Sec. 2906, as amended by NARA Act of 1984, for the use of those agencies in conducting records management studies. The Administrator of GSA and the Archivist of NARA are charged by 44 U.S.C. Sec. 2904 with promulgating standards, procedures and guidelines regarding records management and conducting records management studies. Section 2906 of that law, also amended by the NARA Act of 1984, provides that GSA and NARA are to have access to federal agencies' records and that agencies are to cooperate with GSA and NARA. In carrying out these responsibilities, it may be necessary for GSA and NARA to have access to this proposed system of records. In such instances, the routine use will facilitate disclosure.

6. To the Department of Justice (DOJ), a court, or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to litigation or has an interest in such litigation, and SSA determines that the use of such records by DOJ, a court, or other tribunal is relevant and necessary to the litigation, provided, however, that in each case, SSA determines that such disclosure is compatible with the purpose for which the records were collected.

Wage and other information which are subject to the disclosure provisions of the Internal Revenue Code (IRC) (26 U.S.C. 6103) will not be disclosed under this routine use unless disclosure is expressly permitted by the IRC. We will disclose information under this routine use only as necessary to enable DOJ, a court, or other tribunal, to effectively defend SSA, its components or employees in litigation involving the proposed system of records. 7. Information may be disclosed to State or Private alternate providers having an approved business arrangement with SSA to perform vocational rehabilitation services for SSA disability beneficiaries and recipients.

This proposed routine use would permit us to disclose information from the proposed system for the purpose of assisting beneficiaries/recipients to participate in vocational rehabilitation.

B. Compatibility of Proposed Routine Uses

The Privacy Act (5 U.S.C. 552a(b)(3)) and our disclosure regulations (20 CFR part 401) permit us to disclose information under a published routine use for a purpose which is compatible with the purpose for which we collected the information. Section 401.150(c) of the regulations permits us to disclose information under a routine use where necessary to assist in carrying out SSA programs. Section 401.120 of the regulations provides that we will disclose information when a law specifically requires the disclosure. The proposed routine uses numbered 1-7 above will ensure efficient administration and evaluation of the Ticket-to-Work Program; the disclosures that would be made under routine use number 5 are required by Federal law. Thus, all of the routine uses are appropriate and meet the relevant statutory and regulatory criteria.

C. Proposed Alterations to the Existing System of Records, the Completed Determination Record—Continuing Disability Determinations, 60-0050

The Completed Determination Record—Continuing Disability Determinations System contains information pertaining to allowed disability claimants on which a continuing disability issue has occurred and a decision of continuance or cessation has been approved. We are altering this system to add information pertaining to title II and title XVI beneficiaries with disabilities who have been selected to receive a Ticket as part of the Ticket Program.

Specifically, we are altering the Completed Determination Record—Continuing Disability Determinations systems notice as follows:

• Expanding the categories of individuals covered by the system to include title II and title XVI disability beneficiaries who have been selected to receive a Ticket as part of the Ticket-to-Work Self-Sufficiency Program;

• Expanding the categories of records maintained in the system to indicate Ticket eligibility, receipt, assignment and use, alleged and verified earnings and other work-related information and suspension of continuing disability determinations;

• Expanding the “Purpose(s)” for which the system is used to include record information related to the administration and evaluation of the Ticket-to-Work Self-Sufficiency Program; and

• Expanding the routine uses of records maintained in the system to include disclosure to the Secretary of Health and Human Services (HHS) and to contractors for the purpose of assisting SSA in the administration and evaluation of the Ticket-to-Work and Self-Sufficiency Program; and

• Making other “housekeeping” changes throughout the systems notice.

III. Records Storage Medium and Safeguards for the Proposed New System, the Ticket-to-Work and Self-Sufficiency Program Payment Database and Proposed Alterations to Existing System of Records, the Completed Determination Record—Continuing Disability Determinations

We will maintain information about the Ticket Program in the proposed new system of records and the altered system in electronic form, computer data systems and paper form. Only authorized SSA personnel who have a need for the information in the performance of their official duties will be permitted access to the information. Security measures include the use of access codes to enter the computer systems that will maintain the data and storage of the computerized records in secured areas that are accessible only to employees who require the information in performing their official duties. Any manually maintained records will be kept in locked cabinets or in otherwise secure areas. Also, all entrances and exits to SSA buildings and related facilities are patrolled by security guards.

Contractor personnel having access to data in the proposed new system of records and the altered system of records along with contractor personnel involved in the evaluation of the Ticket Program will be required to adhere to SSA rules concerning safeguards, access and use of the data. Specifically, the PM will maintain the data in their data center, access to which will be restricted to those with electronic proximity cards. Access to the data files is further restricted by use of a three-tiered password which allows access (1) to the system; (2) to the specific application; and (3) to the specific portion where the Ticket-to-Work Self-Sufficiency Program Payment Database is stored. Further, this data will be stored on a secure server separate from other health benefit information the contractor maintains.

SSA personnel having access to the data on these systems will be informed of the criminal penalties of the Privacy Act for unauthorized access to or disclosure of information maintained in these systems. See 5 U.S.C. 552a(i)(1).

IV. Effect of the Proposed New System of Records, the Ticket-to-Work and Self-Sufficiency Program Payment Database and Proposed Alterations to Existing System of Records, the Completed Determination Record—Continuing Disability Determinations, on the Rights of Individuals

The proposed new system and altered system of records will maintain only that information that is relevant to the implementation, administration and evaluation of section 1148 of the Act. There are existing security standards that protect access to and disclosure of records in the existing system as well as the proposed new system. Therefore, we do not anticipate that the proposed system of records and the alteration to existing system of records will have an unwarranted adverse effect on the rights of individuals.

Dated: March 28, 2001.
William A. Halter,
Acting Commissioner of Social Security.

60-0295

System Name:

Ticket-to-Work and Self-Sufficiency Program Payment Database.

Security Classification:

None.

System Location:

Social Security Administration, Office of Systems Operations, 6401 Security Boulevard, Baltimore, MD 21043.

Contractor Sites:

Addresses may be obtained by writing to the system manager(s) at the address below.

Categories of Individuals Covered by the System:

All title II and title XVI disability beneficiaries who are eligible to receive a Ticket under the Ticket-to-Work program and individuals who have been placed on inactive status.

Categories of Records in the System:

The information maintained in this system of records is collected from title II and title XVI disability beneficiaries and from other systems of records maintained by SSA. Specifically, it will contain the beneficiaries' name, ticket number (which represents the SSN), payments requested by and made to employment networks (ENs) for specific beneficiaries under the Ticket Program. This information will be housed under both the EN's employer identification number (EIN) and each beneficiary's ticket number (SSN). Additional records will include: type, amount and date of the payments made, as well as EN payment requests that are denied.

Authority for Maintenance of the System:

Section 1148 of the Social Security Act.

Purpose:

Information in this system of records will be used by SSA to implement and administer the Ticket-to-Work Program under section 1148 of the Act. Information in this system of records will also be used to produce management information and program evaluation data and reports providing such information as:

• Number and classification of beneficiaries being served by ENs.

• Number and classification of beneficiaries with increased work activity.

• Classifications of ENs providing service.

• Type of payments requested.

• Amount of payments requested.

• Type of payments made.

• Amount of payments made.

• Disposition of payment requests.

Routine Uses of Records Maintained in the System, Including Categories of Users and the Purposes of Such Uses:

Disclosures may be made for routine uses as indicated below. However, disclosure of any information constituting “returns or return information” within the scope of the Internal Revenue Code (IRC) will not be disclosed unless disclosure is authorized by that statute.

1. To the Office of the President for the purpose of responding to an individual pursuant to an inquiry received from that individual or from a third party on his or her behalf.

2. To a congressional office in response to an inquiry from that office made at the request of the subject of a record.

3. To student volunteers and other workers, who technically do not have the status of Federal employees, when they are performing work for SSA as authorized by law, and they need access to personally identifiable information in SSA records in order to perform their assigned Agency functions.

4. Disclosure to contractors and other Federal agencies, as necessary, for the purpose of assisting SSA in the efficient administration of its programs.

5. Non-tax return information which is not restricted from disclosure by federal law may be disclosed to the General Services Administration (GSA) and the National Archives and Records Administration (NARA) under 44 U.S.C. Sec. 2904 and Sec. 2906, as amended by NARA Act of 1984, for the use of those agencies in conducting records management studies.

6. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components,

is a party to litigation or has an interest in such litigation, and SSA determines that the use of such records by DOJ, the court, or other tribunal is relevant and necessary to the litigation, provided, however, that in each case, SSA determines that such disclosure is compatible with the purpose for which the records were collected.

Wage and other information which are subject to the disclosure provisions of the IRC (26 U.S.C. 6103) will not be disclosed under this routine use unless disclosure is expressly permitted by the IRC.

7. Information may be disclosed to State or private alternate providers having an approved business arrangement with SSA to perform vocational rehabilitation services for SSA disability beneficiaries and recipients.

Policies and Practices for Storing, Retrieving, Accessing, Retaining and Disposing of Records in the System:

Storage:

Data are stored in electronic and paper form.

Retrievability:

Records in this system are retrieved by name and SSN of the beneficiary, the employer identification number and the name of the employment network (EN).

Safeguards:

Only authorized SSA personnel who have a need for the information in the performance of their official duties will be permitted access to the information.

Security measures include the use of access codes to enter the database and storage of the electronic records in secured areas that are accessible only to employees who require the information in performing their official duties. Any manually maintained records will be kept in locked cabinets or in otherwise secure areas. Also, all entrances and exits to SSA buildings and related facilities are patrolled by security guards.

Contractor personnel having access to data in the systems of records and contractor personnel involved in the evaluation of the Ticket Program will be required to adhere to SSA rules concerning safeguards, access and use of the data. Specifically, the contractor will maintain the data in their data center, access to which will be restricted to those with electronic proximity cards. Access to the data files is further restricted by use of a three-tiered password which allows access to: (1) The system; (2) the specific application; and (3) the specific portion where the Ticket-to-Work and Self-Sufficiency Program Payment Database is stored. Further, this data will be stored on a secure server separate from other health benefit information the contractor maintains.

Retention and Disposal:

Payment and management information maintained in this system are retained 10 years or until it is determined that they are no longer needed. Means of disposal is appropriate to storage medium (e.g., deletion of individual records from the electronic site when appropriate or shredding of paper records that are produced from the system).

System Manager and Address:

Associate Commissioner, Office of Systems Operations, 6401 Security Boulevard, Baltimore, MD 21235.

Notification procedure:

An individual can determine if this system contains a record about him/her by writing to the systems manager(s) at the above address and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record Access Procedures:

Same as notification procedures. Requesters also should reasonably specify the record contents they are seeking. These procedures are in accordance to SSA Regulations (20 CFR 401.50).

Contesting record procedures:

Same as notification procedures. Requesters should also reasonably identify the record, specify the information they are contesting and state the corrective action sought and the reasons for the correction with supporting justification showing how the record is untimely, incomplete, inaccurate or irrelevant. These procedures are in accordance with SSA Regulations (20 CFR 401.65).

Record Source Categories:

Data contained in the Ticket-to-Work Self-Sufficiency Program Database are obtained from SSA, Employment Networks and Program Managers. Records from this system are also derived from the Supplemental Security Income Record and Special Veterans Benefits (SVB), 60-0103, Master Beneficiary Record, 60-0090, and the Completed Determination Record—Continuing Disability Determinations, 60-0050.

Systems Exempt from Certain Provisions of the Privacy Act:

None.

60-0050

System Name:

Completed Determination Record—Continuing Disability Determinations, HHS/SSA/OP.

Security Classification:

None.

System Location:

Social Security Administration, Office of Systems Operations, 6401 Security Boulevard, Baltimore, MD 21235

Categories of Individuals Covered by the System:

This file contains a record on allowed disability claimants on which a continuing disability issue has occurred and a decision of continuance or cessation has been approved. This file also covers title II and title XVI disability beneficiaries who have been selected to receive a Ticket-to-Work as part of the Ticket-to-Work and Self-Sufficiency Program.

Categories of Records in the System:

Name and social security number (SSN) of the individual and other data such as date of birth, district office and state agency code, date disability began, type of claim, reason for reopening, continuance or cessation code, date of termination (if applicable), date of completion, etc. In addition, data related to the Ticket-to-Work program such as Ticket eligibility, receipt, assignment and use, alleged and verified earnings and other work-related information and suspension of continuing disability determinations.

Authority for Maintenance of the System:

Sections 221 and 1148 of the Act.

Purpose(s):

This system is used to (1) record the result of continuing disability investigations; and (2) record information related to the administration and evaluation of the Ticket-to-Work and Self-Sufficiency Program.

Routine Uses of Records Maintained in the System, Including Categories of Users and the Purposes of Such Uses:

Disclosure may be made for routine uses as indicated below. However, disclosure of any information constituting “returns or return information” within the scope of the Internal Revenue Code (IRC) will not be disclosed unless disclosure is authorized by that statute.

1. To a congressional office in response to an inquiry from the office made at the request of the subject of a record.

2. To the Internal Revenue Service, as necessary, for the purpose of auditing SSA's compliance with the safeguard provisions of the IRC of 1986, as amended.

3. Information may be disclosed to contractors and other Federal agencies, as necessary, for the purpose of assisting SSA in the efficient administration of its programs. We contemplate disclosing information under this routine use only in situations in which SSA may enter into a contractual or similar agreement with a third party to assist in accomplishing an agency function relating to this system of records.

4. Non-tax return information which is not restricted from disclosure by Federal law may be disclosed to the General Services Administration (GSA) and the National Archives and Records Administration (NARA) for the purpose of conducting records management studies with respect to their duties and responsibilities under 44 U.S.C. 2904 and 2906, as amended by NARA Act of 1984.

5. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components,

is a party to litigation or has an interest in such litigation, and SSA determines that the use of such records by the litigation, provided, however, that in each case, SSA determines that such disclosure is compatible with the purpose for which the records were collected.

Wage and other information which are subject to the disclosure provisions of the IRC (26 U.S.C. 6103) will not be disclosed under this routine use unless disclosure is expressly permitted by the IRC.

6. To student volunteers and other workers, who technically do not have the status of Federal employees, when they are performing work for SSA as authorized by law, and they need access to personally identifiable information in SSA records in order to perform their assigned Agency functions.

7. The Commissioner shall disclose to the Secretary of Health and Human Services, or to any State, any record or information requested in writing by the Secretary to be so disclosed for the purpose of administering any program administered by the Secretary, if records or information of such type were so disclosed under applicable rules, regulations and procedures in effect before the date of enactment of the Social Security Independence Improvements Act of 1994.

8. To contractors for the purpose of assisting SSA in the efficient administration and evaluation of the Ticket-to-Work and Self-Sufficiency Program. (These contractors would be limited to the Program Manager, which is directly assisting SSA in administering the Ticket program, and to Employment Networks, which are providing services to SSA beneficiaries under the Ticket program.)

Policies and practices for storing, retrieving, accessing, retaining, and disposing of records in the system:

Storage:

Records are maintained in magnetic media (e.g., magnetic tapes).

Retrievability:

The records are retrieved by the SSN.

Safeguards:

Only authorized personnel having a need for this information in the performance of their official duties have access to this data under stringent security measures involving guards, building passes and photographs, etc. (See Appendix G to this publication for additional information relating to safeguards SSA employs to protect personal information.)

Retention and Disposal:

The records are maintained indefinitely.

System Manager(s) and Address:

SSA Privacy Officer, Social Security Administration, 6401 Security Boulevard, Baltimore, Maryland 21235.

Notification Procedure:

An individual can determine if this system contains a record about him/her by contacting the system manager at the address shown above and furnishing his or her name, SSN, approximate date and place claim was file, type of claim (DI, BL, or SSI), and return address. (Furnishing the SSN is voluntary, but it will make searching for an individual's record easier and avoid delay.)

An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

An individual who requests access to his or her medical records shall be given direct access to those records unless SSA determines that it is likely that direct access would adversely affect the individual. If SSA determines that direct access to the medical record(s) would adversely affect the individual, he or she must designate a responsible representative who is capable of explaining the contents of the medical record(s) to him or her and who would be willing to provide the entire record(s) to the individual. These procedures are in accordance with SSA Regulations (20 CFR 401.55).

A parent or guardian who requests notification of or access to a minor's medical record shall at the time he or she makes the request designate a physician or other health professional (other than a family member) who is capable of explaining the contents of the medical record(s) to him or her and who would be willing to provide the entire record(s) to the individual. These procedures are in accordance with SSA Regulations (20 CFR 401.55).

Record Access Procedures:

Same as notification procedures. Also, requesters should reasonably specify the record contents they are seeking.

Contesting Record Procedures:

Same as notification procedures. Also, requesters should reasonably identify the record, specify the information they are contesting and state the corrective action sought and the reasons for the correction with supporting justification showing how the record is incomplete, untimely, inaccurate or irrelevant. These procedures are in accordance with SSA Regulations (20 CFR 401.65).

Record Source Categories:

These records summarize information contained in the claims folder which was obtained from the individual or someone acting on the individual's behalf and from this individual's physician or a physician performing a consultative examination or from hospitals and other treatment sources.

Systems Exempted from Certain Provisions of the Privacy Act:

None.

[FR Doc. 01-8262 Filed 4-3-01; 8:45 am]

BILLING CODE 4191-02-P